DEPARTMENT OF COMMERCE

National Oceanic and Atmospheric Administration

RIN 0648-XA503

Marine Mammals; File No. 16510

AGENCY: National Marine Fisheries Service (NMFS), National Oceanic and Atmospheric Administration (NOAA), Commerce.

ACTION: Notice; receipt of application.

SUMMARY: Notice is hereby given that Blank Park Zoo [Kevin V. Drees, Responsible Party], 7401 SW. Ninth, Des Moines, IA 50315, has applied in due form for a permit to import for public display up to five non-releasable California sea lions (Zalophus californianus) and harbor seals (Phoca vitulina).

DATES: Written, telefaxed, or e-mail comments must be received on or before July 25, 2011.

ADDRESSES: The application and related documents are available upon written request or by appointment in the following offices:

Permits, Conservation and Education Division, Office of Protected Resources, NMFS, 1315 East-West Highway, Room 13705, Silver Spring, MD 20910; phone (301) 427-8401; fax (301) 713-0376; and

Southeast Region, NMFS, 263 13th Avenue South, Saint Petersburg, Florida 33701; phone (727) 824-5312; fax (727) 824-5309.

Written comments on this application should be submitted to the Chief, Permits, Conservation and Education Division, at the address listed above. Comments may also be submitted by facsimile to (301) 713-0376, or by e-mail to NMFS.Pr1Comments@noaa.gov. Please include the File No. 16510 in the subject line of the e-mail comment.

Those individuals requesting a public hearing should submit a written request to the Chief, Permits, Conservation and Education Division at the address listed above. The request should set forth the specific reasons why a hearing on this application would be appropriate.

FOR FURTHER INFORMATION CONTACT: Laura Morse or Jennifer Skidmore, (301) 427-8401.

SUPPLEMENTARY INFORMATION: The subject permit is requested under the authority of the Marine Mammal Protection Act of 1972, as amended (MMPA; 16 U.S.C. 1361 et seq.), and the regulations governing the taking and importing of marine mammals (50 CFR part 216).

The applicant requests authorization to import up to five non-releasable marine mammals over the next five year period including two harbor seals in the fall of 2011 from the Marine Mammal Rescue Division of the Vancouver Aquarium, Vancouver, Canada for purposes of public display at the Blank Park Zoo. The receiving facility is: (1) Open to the public on regularly scheduled basis with access that is not limited or restricted other than by charging an admission fee; (2) offers an educational program based on professionally recognized standards; and (3) holds an Exhibitor's License, number 42-C-0168, issued by the U.S. Department of Agriculture under the Animal Welfare Act (7 U.S.C. 2131-59). The permit would expire five years after the date of issuance.

In addition to determining whether the applicant meets the three public display criteria, NMFS must determine whether the applicant has demonstrated that the proposed activity is humane and does not represent any unnecessary risks to the health and welfare of marine mammals; that the proposed activity by itself, or in combination with other activities, will not likely have a significant adverse impact on the species or stock; and that the applicant's expertise, facilities and resources are adequate to accomplish successfully the objectives and activities stated in the application.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: June 20, 2011.
P. Michael Payne,
Chief, Permits, Conservation and Education Division, Office of Protected Resources, National Marine Fisheries Service.

[FR Doc. 2011-15896 Filed 6-23-11; 8:45 am]

BILLING CODE 3510-22-P